DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Metro North Railroad (MNCW)

(Docket Number FRA-2005-20314)

The Metro North Railroad (MNCW) seeks a waiver of compliance from docket number, FRA-2005-20314, with the Passenger Equipment Safety Standards, 49 CFR part 238, section 309(b) periodic brake equipment maintenance, as it pertains to scheduled 1,104 day clean, repair, and test intervals for a MU locomotive that is part of a fleet that is 100% equipped with air driers and also equipped with one of the approved brake systems, RT-5A. MNCW is requesting permission to extend the 1,104 day intervals by 184 days for 144 M1-A MU rail cars. MNCW explains in their request that the M1-A cars were slated for retirement prior to coming due for the 1,104 day maintenance but because they are not receiving new M7 cars on time, they are unable to do this.

As part of the request, the railroad will perform a 368 day inspection, which will include the same maintenance and overhaul to the M1-A air compressor and air quality system as required as part of the 1104 day maintenance. Also, at this time, they will renew the emergency brake valve portion, the J-1 Relay valve, and the electro-pneumatic emergency valve, and perform a single car test, to assure the emergency brake functions as intended.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2005-20314) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on March 14, 2005.
Grady C. Cothen, Jr.,
Deputy Associate Administrator for Safety Standards and Program Development.

[FR Doc. 05-5364 Filed 3-17-05; 8:45 am]

BILLING CODE 4910-06-P